FEDERAL RETIREMENT THRIFT INVESTMENT BOARD

Sunshine Act Amended; Notice of Meeting; September 10, 2015; 8:30 a.m.; In-Person Meeting

PLACE: 10th Floor Board Meeting Room, 77 K Street NE., Washington, DC 20002.

STATUS: Open to the Public.

MATTERS TO BE CONSIDERED:

Closed Session 8:30 a.m.—10:00 a.m.

1. Procurement

2. Security

Open Session 10:00 a.m.—11:30 a.m.

3. Approval of the Minutes for the August 24, 2015 Board Member Meeting

4. Monthly Reports

(a) Monthly Participant Activity Report

(b) Monthly Investment Report

(c) Legislative Report

5. Auto Escalation

6. OCE Communication

7. FY 16 Budget Review and Approval

8. Audit Report

9. OERM Report

Closed Session 11:30 a.m.—12:00 p.m.

1. Procurement

Adjourn

Contact Person For More Information: Kimberly Weaver, Director, Office of External Affairs, (202) 942-1640.

Dated: August 27, 2015.
James Petrick,
General Counsel, Federal Retirement Thrift Investment Board.

[FR Doc. 2015-22070 Filed 9-2-15; 11:15 am]

BILLING CODE 6760-01-P